DEPARTMENT OF DEFENSE

Office of the Secretary

Meeting of the National Commission on the Structure of the Air Force; Cancellation of August 6, 2013 Meeting

AGENCY: Director of Administration and Management, DoD.

ACTION: Notice of Advisory Committee Meeting; cancellation.

SUMMARY: On Wednesday, July 31, 2013 (78 FR 46329), the Department of Defense published a notice announcing an August 6, 2013 meeting of the National Commission on the Structure of the Air Force. Under the provisions of the Federal Advisory Committee Act of 1972 (5 U.S.C., Appendix, as amended), and the Government in the Sunshine Act of 1976 (5 U.S.C. 552b, as amended), this notice announces that the National Commission on the Structure of the Air Force meeting scheduled for Tuesday, August 6, 2013 is hereby cancelled. Due to unforeseen circumstances arising from the furlough on civilian employee hours, the Chairman has re-evaluated the schedule to complete the Commission's report by February 1, 2014. A more efficient agenda is planned, whereby the Chairman will combine the August 6, 2013 meeting with a future meeting.

FOR FURTHER INFORMATION CONTACT: Mrs. Marcia Moore, Designated Federal Officer, National Commission on the Structure of the Air Force, 1950 Defense Pentagon Room 3A874, Washington, DC 20301-1950. Email: dfoafstrucomm@osd.mil. Desk (703) 545-9113. Facsimile (703) 692-5625.

Dated: August 1, 2013.
Aaron Siegel,
Alternate OSD Federal Register Liaison Officer, Department of Defense.

[FR Doc. 2013-18937 Filed 8-5-13; 8:45 am]

BILLING CODE 5001-06-P